DEPARTMENT OF COMMERCE

International Trade Administration

Initiation of Five-Year (Sunset) Reviews; Correction

AGENCY: Enforcement and Compliance, International Trade Administration, Department of Commerce.

ACTION: Notice; Correction.

SUMMARY: The U.S. Department of Commerce (Commerce) published in the Federal Register of April 1, 2024, in which Commerce announced the initiation of five-year reviews (Sunset Reviews) of the antidumping duty (AD) and countervailing duty (CVD) order(s) and suspended investigation(s). That notice listed an incorrect case number in the “Initiation of Review” section.

FOR FURTHER INFORMATION CONTACT: Thomas Martin, AD/CVD Operations, Office IV, Enforcement and Compliance, International Trade Administration, U.S. Department of Commerce, 1401 Constitution Avenue NW, Washington, DC 20230; telephone: (202) 482-3936.

SUPPLEMENTARY INFORMATION:

Background

On April 1, 2024, Commerce published in the Federal Register a notice of Initiation of Five-Year (Sunset) Reviews. In that notice, Commerce incorrectly listed the Commerce case number “DOC Case No.” for Utility Wind Towers (2nd Review) from Vietnam as “A-552-863” when it should have listed “A-552-814.”

Correction

In the Federal Register of April 1, 2024, in FR Doc 2024-06793, on page 22374 in the first column, correct the Commerce case number “DOC Case No.” found in the “Initiation of Review” table to “A-552-814” for Utility Wind Towers (2nd Review) from Vietnam.

Notification to Interested Parties

This notice of initiation is being published in accordance with section 751(c) of the Tariff Act of 1930, as amended, and 19 CFR 351.218(c).

Dated: April 9, 2024.
James Maeder,
Deputy Assistant Secretary for Antidumping and Countervailing Duty Operations.

[FR Doc. 2024-07858 Filed 4-12-24; 8:45 am]

BILLING CODE 3510-DS-P